DEPARTMENT OF DEFENSE

Office of the Secretary

Defense Advisory Committee on Investigation, Prosecution, and Defense of Sexual Assault in the Armed Forces; Notice of Federal Advisory Committee Meeting

AGENCY: General Counsel of the Department of Defense, Department of Defense.

ACTION: Notice of Federal Advisory Committee meeting.

SUMMARY: The Department of Defense (DoD) is publishing this notice to announce that the following Federal Advisory Committee meeting of the Defense Advisory Committee on Investigation, Prosecution, and Defense of Sexual Assault in the Armed Forces will take place.

DATES: Open to the public, Friday, October 19, 2018 from 9:00 a.m. to 5:00 p.m.

ADDRESSES: One Liberty Center, 875 N Randolph Street, Suite 1432, Arlington, Virginia 22203.

FOR FURTHER INFORMATION CONTACT: Dwight Sullivan, 703-695-1055 (Voice), dwight.h.sullivan.civ@mail.mil (Email). Mailing address is DAC-IPAD, One Liberty Center, 875 N Randolph Street, Suite 150, Arlington, Virginia 22203. Website: http://dacipad.whs.mil/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: In section 546 of the National Defense Authorization Act for Fiscal Year 2015 (Pub. L. 113-291), as modified by section 537 of the National Defense Authorization Act for Fiscal Year 2016 (Pub. L. 114-92), Congress tasked the DAC-IPAD to advise the Secretary of Defense on the investigation, prosecution, and defense of allegations of rape, forcible sodomy, sexual assault, and other sexual misconduct involving members of the Armed Forces. This will be the tenth public meeting held by the DAC-IPAD. For its first session, the Committee will receive testimony from a retired Service member who was accused of sexual assault and from a Marine Corps defense highly qualified expert (HQE) on the effect of sexual assault investigations on accused Service members. Next, the Committee will receive testimony from three civilian sexual assault investigators regarding their perspectives on making probable cause determinations and opening and closing sexual assault investigations. The Committee will receive a presentation from the chair of the DAC-IPAD Case Review Working Group on the working group's initial findings and recommendations stemming from its review of fiscal year 2017 sexual assault investigative case files. The Committee will then receive a briefing from DAC-IPAD staff regarding three recommendations made by its predecessor sexual assault advisory committee, the Judicial Proceedings Panel (JPP) that the Department of Defense General Counsel has requested the DAC-IPAD examine. Next, the Committee will conduct final deliberations for its assessment of the military's expedited transfer policy. For its final sessions, the Committee will receive a briefing from its Data Working Group staff on the status of its sexual assault case adjudication data collection project for fiscal years 2012 through 2017, and a briefing on section 547 of the National Defense Authorization Act for Fiscal Year 2019, which requires the Secretary of Defense, through the DAC-IPAD, to conduct a study every two years reporting on the number of instances in which a sexual assault victim was accused or received disciplinary action for collateral misconduct related to allegations of sexual assault committed against that victim.

Agenda

9:00 a.m.-9:10 a.m. Public Meeting Begins—Welcome and Introduction;

9:10 a.m.-10:30 a.m. Effects of Sexual Assault Investigations on Accused Service Members;

10:30 a.m.-10:40 a.m. Break;

10:40 a.m.-12:00 p.m. Perspectives of Civilian Sexual Assault Investigators;

12:00 p.m.-1:00 p.m. Lunch;

1:10 p.m.-1:50 p.m. Case Review Working Group Presentation and Committee Deliberations on Initial Findings and Recommendations Related to Sexual Assault Investigative Case File Reviews;

1:50 p.m.-2:30 p.m. Briefing and Committee Deliberations on Judicial Proceedings Panel Recommendations Related to Articles 32, 33, and 34 of the Uniform Code of Military Justice Referred to the DAC-IPAD for Examination;

2:30 p.m.-3:50 p.m. Committee Deliberations on Expedited Transfer—Final Assessment;

3:50 p.m.-4:00 p.m. Break;

4:00 p.m.-4:15 p.m. Data Working Group Update;

4:15 p.m.-4:45 p.m. Briefing and Committee Deliberations on Fiscal Year 2019 NDAA Required Collateral Misconduct Study;

4:45 p.m.-5:00 p.m. Public Comment;

5:00 p.m. Public Meeting Adjourned.

Meeting Accessibility: Pursuant to 5 U.S.C. 552b and 41 CFR 102-3.140 through 102-3.165, and the availability of space, this meeting is open to the public. Seating is limited and is on a first-come basis. Visitors are required to sign in at the One Liberty Center security desk and must leave government-issued photo identification on file and wear a visitor badge while in the building. Department of Defense Common Access Card (CAC) holders who do not have authorized access to One Liberty Center must provide an alternate form of government-issued photo identification to leave on file with security while in the building. All visitors must pass through a metal detection security screening. Individuals requiring special accommodations to access the public meeting should contact the DAC-IPAD at whs.pentagon.em.mbx.dacipad@mail.mil at least five (5) business days prior to the meeting so that appropriate arrangements can be made. In the event the Office of Personnel Management closes the government due to inclement weather or for any other reason, please consult the website for any changes to the public meeting date or time.

Written Statements: Pursuant to 41 CFR 102-3.140 and section 10(a)(3) of the Federal Advisory Committee Act of 1972, the public or interested organizations may submit written comments to the Committee about its mission and topics pertaining to this public session. Written comments must be received by the DAC-IPAD at least five (5) business days prior to the meeting date so that they may be made available to the Committee members for their consideration prior to the meeting. Written comments should be submitted via email to the DAC-IPAD at whs.pentagon.em.mbx.dacipad@mail.mil in the following formats: Adobe Acrobat or Microsoft Word. Please note that since the DAC-IPAD operates under the provisions of the Federal Advisory Committee Act, as amended, all written comments will be treated as public documents and will be made available for public inspection. Oral statements from the public will be permitted, though the number and length of such oral statements may be limited based on the time available and the number of such requests. Oral presentations by members of the public will be permitted from 4:45 p.m. to 5:00 p.m. on October 19, 2018, in front of the Committee members.

Dated: October 1, 2018.
Aaron T. Siegel,
Alternate OSD Federal Register Liaison Officer, Department of Defense.

[FR Doc. 2018-21655 Filed 10-4-18; 8:45 am]

BILLING CODE 5001-06-P